AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator has determined that renewal of the Advisory Committee on Voluntary Foreign Aid for a two-year period beginning January 15, 2009 is necessary and in the public interest.

FOR FURTHER INFORMATION CONTACT: Jocelyn Rowe, 202-712-4002.

Dated: December 17, 2008.
Jocelyn M. Rowe,
Executive Director, Advisory Committee on Voluntary Foreign Aid (ACVFA), U.S. Agency for International Development.

[FR Doc. E8-30491 Filed 12-22-08; 8:45 am]

BILLING CODE 6116-02-P